DEPARTMENT OF THE INTERIOR

Bureau of Land Management

[ID-300-1020-PH]

Notice of Public Meeting, Idaho Falls District Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The meeting will be held November 29-30, 2005 at the Hampton Inn, 2500 Channing Way, Idaho Falls, Idaho 83404. The meeting will start at 1 p.m. November 29, with an orientation session for new members. This first day will be information only, and no decisions will be made. The second day, November 30, will be for the full Advisory Council, and the public comment period as the first agenda item, starting at 8 a.m. The meeting will adjourn at or before 3 p.m. At this meeting, the Advisory Council will set its agenda for the coming year, schedule meetings, and discuss current issues before the BLM Idaho Falls District.

SUPPLEMENTARY INFORMATION: The 15-member Council advises the Secretary of the Interior, through the Bureau of Land Management, on a variety of planning and management issues associated with public land management in the BLM Idaho Falls District (IFD), which covers eastern Idaho. At this meeting, topics we plan to discuss include:

• Orientation for new members.

• A discussion of recreational upgrades to the Blackfoot Reservoir campground and the need to set fees. RAC members will be asked for their input as to an appropriate range of fees for the site, in preparation for a broader public outreach campaign in December and January.

• Updates on Idaho's Sage Grouse Conservation strategy, if completed and released for public review.

• A field trip to the Cress Creek Trail, weather permitting. If remaining indoors, the discussion will also include a brief update on the Upper Snake Field Office South Fork Activity Plan revision.

• Updates on the latest litigation for BLM, and other current issues as appropriate.

• The RAC will set an annual agenda.

• Other items of interest raised by the Council.

Transportation for the field trip will be provided for RAC members. Members of the public wishing to accompany the RAC on the field trip must furnish their own transportation.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: David Howell, RAC Coordinator, Idaho Falls District, 1405 Hollipark Dr., Idaho Falls, ID 83401. Telephone (208) 524-7559. E-mail: David_Howell@blm.gov.

Dated: November 2, 2005.
David Howell,
RAC Coordinator, Public Affairs Specialist.

[FR Doc. 05-22206 Filed 11-7-05; 8:45 am]

BILLING CODE 4310-GG-P